DEPARTMENT OF HEALTH AND HUMAN SERVICES

National Institutes of Health

Office of the Director, National Institutes of Health; Amended Notice of Meeting

Notice is hereby given of a change in the meeting of the Council of Councils, May 17, 2019, 08:15 a.m. to May 17, 2019, 04:00 p.m., National Institutes of Health, The Cloisters Building, 1 Cloisters Court, Bethesda, MD 20892 which was published in the Federal Register on February 08, 2019, 84 FR 2889.

The meeting notice is amended to change the open and closed session meeting times as follows: The morning open session end time will change from 12:00 p.m. to 11:30 a.m.; the closed session will change from 12:00 p.m.-1:30 p.m. to 11:45 a.m.-12:15 p.m.; and the afternoon open session start time will change from 1:30 p.m. to 1:15 p.m.

Dated: May 7, 2019.
Ronald J. Livingston, Jr.,
Program Analyst, Office of Federal Advisory Committee Policy.

[FR Doc. 2019-09734 Filed 5-10-19; 8:45 am]

BILLING CODE 4140-01-P